DEPARTMENT OF COMMERCE

National Oceanic and Atmospheric Administration

RIN 0648-XV99

Taking and Importing Marine Mammals: Taking Marine Mammals Incidental to Navy Operations of Surveillance Towed Array Sensor System Low Frequency Active Sonar

AGENCY: National Marine Fisheries Service (NMFS), National Oceanic and Atmospheric Administration (NOAA), Commerce.

ACTION: Notice; issuance of three Letters of Authorization.

SUMMARY: In accordance with the Marine Mammal Protection Act (MMPA), as amended, and implementing regulations, notification is hereby given that NMFS has issued three one-year Letters of Authorization (LOAs) to take marine mammals by harassment incidental to the U.S. Navy's operation of Surveillance Towed Array Sensor System Low Frequency Active (SURTASS LFA) sonar operations to the Chief of Naval Operations, Department of the Navy, 2000 Navy Pentagon, Washington, DC 20350 and persons operating under his authority.

DATES: Effective from August 16, 2010, through August 15, 2011.

ADDRESSES: Copies of the Navy's April 1, 2010, LOA application letter, the LOAs, the Navy's 2009 annual report and the Navy's 2007 5-Year Comprehensive Report are available by writing to P. Michael Payne, Chief, Permits, Conservation, and Education Division, Office of Protected Resources, National Marine Fisheries Service, 1315 East-West Highway, Silver Spring, MD 20910-3225, by telephoning the contact listed here (SEE FOR FURTHER INFORMATION CONTACT), or online at: http://www.nmfs.noaa.gov/pr/permits/incidental.htm#applications. Documents cited in this notice may be viewed, by appointment, during regular business hours, at the aforementioned address.

FOR FURTHER INFORMATION CONTACT: Jeannine Cody, Office of Protected Resources, NMFS (301) 713-2289 x 113.

SUPPLEMENTARY INFORMATION:

Background

Section 101(a)(5)(A) of the MMPA (16 U.S.C. 1361 et seq.) directs the Secretary of Commerce to allow, upon request, the incidental, but not intentional taking of marine mammals by U.S. citizens who engage in a military readiness activity if certain findings are made and regulations are issued.

Authorization may be granted for periods of 5 years or less if NMFS finds that the taking will have a negligible impact on the species or stock(s), and will not have an unmitigable adverse impact on the availability of the species or stock(s) for certain subsistence uses. In addition, NMFS must prescribe regulations that include permissible methods of taking and other means effecting the least practicable adverse impact on the species and its habitat, and on the availability of the species for subsistence uses, paying particular attention to rookeries, mating grounds, and areas of similar significance. The regulations also must include requirements pertaining to the monitoring and reporting of such taking.

Regulations governing the taking of marine mammals incidental to the U.S. Navy's operation of SURTASS LFA sonar were published on August 21, 2007 (72 FR 46846), and remain in effect through August 15, 2012. They are codified at 50 CFR part 216 subpart Q. These regulations include mitigation, monitoring, and reporting requirements for the incidental taking of marine mammals by the SURTASS LFA sonar system. For detailed information on this action, please refer to the August 21, 2007 Federal Register document and 50 CFR part 216 subpart Q.

Summary of LOA Request

NMFS received an application from the U.S. Navy for three LOAs, one covering the USNS ABLE (T-AGOS 20), one covering the USNS IMPECCABLE (T-AGOS 23), and one covering the USNS EFFECTIVE (T-AGOS 21) under the regulations issued on August 21, 2007 (72 FR 46846). (The R/V Cory Chouest has been retired and has been replaced by the USNS ABLE.) The Navy requested that these LOAs become effective on August 16, 2010. The application requested authorization, for a period not to exceed one year, to take, by harassment, marine mammals incidental to employment of the SURTASS LFA sonar system for training, testing and routine military operations on the aforementioned ships in areas of the Pacific Ocean.

Monitoring and Reporting

In compliance with NMFS' 2007 SURTASS LFA sonar regulations, the Navy submitted an annual report (No. 2) for SURTASS LFA sonar operations during 2008-2009. The Navy also submitted a comprehensive report on SURTASS LFA sonar operations and the mitigation and monitoring activities conducted under the LOAs issued under its previous rule for the 2002 through 2007 period. A copy of these reports can be viewed and/or downloaded at: http://www.nmfs.noaa.gov/pr/permits/incidental.htm#applications.

In accordance with the current SURTASS LFA sonar regulations (50 CFR 216.186), the Navy has submitted classified quarterly mission reports. Under the first two LOA periods in the current rule, the Navy has not exceeded the take authorized by NMFS. Based on the submitted quarterly report for the 2009 LOAs, NMFS does not expect the Navy to exceed authorized take (requested and authorized) based on the Navy's 2009 application. The annual report for the 2009-2010 LOA is due on September 30, 2010. Upon receipt, NMFS will post this annual report on the same Internet address.

Authorization

NMFS has issued three LOAs to the U.S. Navy, authorizing the incidental harassment of marine mammals, incidental to operating the three SURTASS LFA sonar systems for training, testing and routine military operations. Issuance of these three LOAs is based on findings, described in the preamble to the final rule (72 FR 46846, August 21, 2007) and supported by information contained in the Navy's required reports on SURTASS LFA sonar, that the activities described under these three LOAs will have no more than a negligible impact on marine mammal stocks and will not have an unmitigable adverse impact on the availability of the affected marine mammal stocks for subsistence uses.

These LOAs remain valid through August 15, 2011, provided the Navy remains in conformance with the conditions of the regulations and the LOAs, and the mitigation, monitoring, and reporting requirements described in 50 CFR 216.184-216.186 (72 FR 46846, August 21, 2007) and in the LOAs are undertaken.

Dated: August 13, 2010.
James H. Lecky,
Director, Office of Protected Resources, National Marine Fisheries Service.

[FR Doc. 2010-20749 Filed 8-19-10; 8:45 am]

BILLING CODE 3510-22-S